DEPARTMENT OF ENERGY

Federal Energy Regulatory Commission

[Docket No. CP01-98-000]

National Fuel Gas Supply Corporation; Notice of Application

March 9, 2001.

Take notice that on March 5, 2001, National Fuel Gas Supply Corporation (National Fuel), 10 Lafayette Square, Buffalo, New York 14203, in Docket No. CP01-98-000 an application pursuant to Section 7(c) of the Natural Gas Act for permission and approval for National Fuel to increase the horsepower (HP) of its Knox Compressor Station, located in Jefferson County, Pennsylvania, all as more fully set forth in the application which is on file with the Commission and open to public inspection. This filing may be viewed on the web at http://www.ferc.fed.us/online/rims.htm (call 202-208-2222 for assistance).

National Fuel proposes to increase the horsepower of its Knox Compressor Station from 1,620 HP to 1,920 HP, located in Jefferson County, Pennsylvania. National Fuel states that it would uprate compressor units 1 and 2 from 450 HP to 600 HP, by increasing the maximum speed of the existing units from 400 RPM to 440 RPM. National Fuel indicates that this work would consist of mechanical, engine, and ignition modifications and related engine and control panel tuning. National Fuel asserts that compressor units 1 and 2 are manufactured by Ajax (Model Number DPC 450 LE).

National Fuel states that the proposed increase in horsepower at the Knox Compressor Station will allow it greater operational flexibility in the use of its Galbraith and Markle Storage Fields by increasing the available maximum injection rates in the later stage of the injection season, and by increasing the available maximum withdrawal rates in the later stage of the withdrawal season.

National Fuel states that estimated cost of the project to be $57,000. National Fuel asserts that the facilities will be financed with internationally-generated funds and/or interim short-term bank loans. National Fuel states that the proposed project is designed to improve existing service for existing customers by improving reliability and flexibility, and qualifies for rolled-in rate treatment under the Commission's Statement of Policy, 88 FERC Paragraph 61,227 (1999). Therefore, National Fuel requests all project costs should be permitted rolled-in treatment in National Fuel's next rate case.

Any questions regarding the application should be directed to David W. Reitz, Assistant General Counsel, at (716) 857-7949, National Fuel Gas Supply Corporation, 10 Lafayette Square, Buffalo, New York 14203.

Any person desiring to be heard or to make any protest with reference to said Application should on or before March 30, 2001, file with the Federal Energy Regulatory Commission, 888 First Street, NE., Washington, DC 20426, a motion to intervene or a protest in accordance with the requirements of the Commission's Rules of Practice and Procedure (18 CFR 385.211 or 18 CFR 385.214) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules. Comments and protests may be filed electronically via the internet in lieu of paper. See, 18 CFR 385.2001(a)(1)(iii) and the instructions on the Commission's web site at http://www.ferc.fed.us/efi/doorbell.htm.

Take further notice that pursuant to the authority contained in and subject to the jurisdiction conferred upon the Commission by sections 7 and 15 of the Natural Gas Act and the Commission's Rules of Practice and Procedure, a hearing will be held without further notice before the Commission or its designee on the Application if no petition to intervene is filed within the time required herein, if the Commission on its own review of the matter finds that a grant of the abandonment is required by the public convenience and necessity. If a petition for leave to intervene is timely filed, or if the Commission, on its own motion believes that a formal hearing is required, further notice of such hearing will be duly given.

Under the procedure herein provided for, unless otherwise advised, it will be unnecessary for Applicant to appear or be represented at the hearing.

David P. Boergers,
Secretary.

[FR Doc. 01-6421 Filed 3-14-01; 8:45 am]

BILLING CODE 6717-01-M